DEPARTMENT OF THE INTERIOR

Bureau of Land Management

[NM220-1430 EU; NM-107550 and NM-109938]

Direct Sale of Public Land in Rio Arriba and Santa Fe County, NM

AGENCY: Bureau of Land Management, Interior.

ACTION: Notice of realty action.

SUMMARY: The Bureau of Land Management (BLM) proposes a direct (non-competitive) sale of two parcels of public land, 1.21 acres located in Rio Arriba County and 0.50 acres located in Santa Fe County, New Mexico. The described public land has been examined and through the public-supported land use planning process has been determined to be suitable for disposal by direct sale pursuant to Section 203 of the Federal Land Policy and Management Act of 1976 (90 Stat. 2750, 43 U.S.C. 1713), as amended, at no less than the appraised fair market value. These sales will resolve the inadvertent trespass by the Heirs of Benerito Ortega (Rio Arriba County) and Joseph Chipman (Santa Fe County).

DATES: Interested parties may submit comments to the Taos Field Office Manager at the address below. Comments must be received by not later than January 17, 2006. The land will not be offered for sale until at least 60 days after the date of publication of this notice in the Federal Register. Only written comments will be accepted.

ADDRESSES: Address all written comments concerning this Notice to Sam DesGeorges, Taos Field Office Manager, 226 Cruz Alta Road, Taos, New Mexico 87571.

FOR FURTHER INFORMATION CONTACT: Francina Martinez, Realty Specialist at the above address or (505) 758-8851.

SUPPLEMENTARY INFORMATION: The following described public land in Rio Arriba and Santa Fe County, New Mexico have been determined to be suitable for sale at not less than fair market value under Section 203 of the Federal Land Policy and Management Act of 1976, as amended (90 Stat. 2750, 43 U.S.C. 1713 and 1719). It has been determined that these lands are difficult to economically manage as part of the public lands. The BLM is also proposing the sales to resolve the inadvertent trespasses. It has been determined that resource values will not be affected by the disposal of these two parcels of public land.

The parcels are described as:

New Mexico Principal Meridian

Rio Arriba County

T. 23 N., R. 10 E.,

Section 28, lot 19.

The area described (NM-109938) contains 1.21 acres, more or less. The market value for this land utilizing direct sales procedures, at not less than the appraised fair market value, is determined to be $8,470.00.

The patent, when issued, will contain a reservation to the United States for ditches and canals under the Act of March 30, 1890 and a reservation for all minerals.

New Mexico Principal Meridian

Santa Fe County

T. 20 N., R. 9 E.,

Section 3, lot 6.

The area described (NM-107550) contains 0.50 acres, more or less. The market value for utilizing direct sales procedures at not less than the appraised fair market value is determined to be $28,000.00.

The two parcels are being offered by direct sale to The Heirs of Benerito Ortega (NM-109938) of Rio Arriba County and Joseph Chipman (NM-107550) of Santa Fe County, New Mexico, under the authority of 43 CFR 2711.3-3, based on historic use and added improvements. Both of the parcels of land have been used as residences for many years as home sites. Failure or refusal by the Heirs of Benerito Ortega and/or Joseph Chipman to submit the required fair market appraisal amount within 180 days of the sale of the land will constitute a waiver of this preference consideration and this land may be offered for sale on a competitive or modified competitive basis.

Upon publication of this notice in the Federal Register, the land described above will be segregated from appropriation under the public land laws, including the general mining laws. The segregation will end upon issuance of patent or 270 days from the date of publication, whichever occurs first.

Comments must be received by the BLM Taos Field Manager, Taos Field Office, at the address stated above, on or before the date stated above. Any adverse comments will be reviewed by the Taos Field Manager, who may sustain, vacate or modify this realty action. In the absence of any objects, or adverse comments, this proposed realty action will become final determination of the Department of the Interior. Authority for this proposed direct sale is found in 43 CFR subpart 2710, subpart 2711.3-3.

Sam DesGeorges,
Field Office Manager.

[FR Doc. E5-6776 Filed 12-1-05; 8:45 am]

BILLING CODE 4310-FB-P